DEPARTMENT OF DEFENSE

Department of the Air Force

Notice is Given of the Names of Members of the Performance Review Board for the Department of the Air Force

AGENCY: Department of the Air Force, Department of Defense.

ACTION: Notice.

SUMMARY: Notice is given of the names of members of the 2018 Performance Review Board for the Department of the Air Force.

Applicable Dates: November 5, 2018.

SUPPLEMENTARY INFORMATION: Pursuant to 5 U.S.C. 4314(c)(1-5), the Department of the Air Force announces the appointment of members to the Air Force's Senior Executive Service Performance Review Board. Appointments are made by the authorizing official. Each board member shall review and evaluate performance scores provided by the Senior Executive's rater/immediate supervisor. Performance standards must be applied consistently across the Air Force. The board will make final recommendations to the authorizing official relative to the performance of the executive.

The members of the 2018 Performance Review Board for the Air Force are:

1. Board President—Gen John W. Raymond, Commander, Air Force Space Command

2. Board Co-President—Mr. Shon J. Manasco, Assistant Secretary of the Air Force for Manpower and Reserve Affairs

3. Honorable Matthew P. Donovan, Under Secretary of the Air Force

4. General Stephen W. Wilson, Vice Chief of Staff of the Air Force

5. Lt. Gen. Anthony J. Cotton, Commander and President, Air University

6. Lt. Gen. Brian T. Kelly, Deputy Chief of Staff, Manpower, Personnel and Services

7. Mr. Timothy K. Bridges, Assistant Deputy Chief of Staff for Logistics, Engineering and Force Protection

8. Ms. Darlene Costello, Principal Deputy Assistant Secretary of the Air Force Acquisition, Technology & Logistics

9. Ms. Gwendolyn R. DeFilippi, Assistant Deputy Chief of Staff for Manpower, Personnel and Services

10. Mr. Joseph M. McDade, Principal Deputy General Counsel of the Air Force

11. Ms. Marilyn M. Thomas, Principal Deputy Assistant Secretary for Financial Management and Comptroller

12. Ms. Patricia M. Young, Air Force Material Command Executive Director

13. Ms. Patricia J. Zarodkiewicz, Administrative Assistant for the Secretary of the Air Force

Additionally, all career status Air Force Tier 3 SES members not included in the above list are eligible to serve on the 2018 Performance Review Board and are hereby nominated for inclusion on an ad hoc basis in the event of absence(s).

FOR FURTHER INFORMATION CONTACT: Please direct any written comments or requests for information to Mr. Lawrence Austin, Air Force Executive Talent Management Office, AF/CVXS, 1040 Air Force Pentagon, Washington, DC 20330-1040 (PH: 703-695-6411; or via email at Lawrence.p.austin.civ@mail.mil).

Henry Williams,
Acting Air Force Federal Register Liaison Officer.

[FR Doc. 2018-20798 Filed 9-24-18; 8:45 am]

BILLING CODE 5001-10-P